DEPARTMENT OF HOUSING AND URBAN DEVELOPMENT

[Docket No. FR-7107-N-01 OMB Control No.: 2506-0171]

30-Day Notice of Proposed Information Collection: HOME Investment Partnership

AGENCY: Office of Policy Development and Research, Chief Data Officer, HUD.

ACTION: Notice.

SUMMARY: HUD is seeking approval from the Office of Management and Budget (OMB) for the information collection described below. In accordance with the Paperwork Reduction Act, HUD is requesting comments from all interested parties on the proposed collection of information. The purpose of this notice is to allow for 30 days of public comment.

DATES: Comments Due Date: March 25, 2026.

ADDRESSES: Interested persons are invited to submit comments regarding this proposal. Written comments and recommendations for the proposed information collection should be sent within 30 days of publication of this notice to www.reginfo.gov/public/do/PRAMain. Find this particular information collection by selecting “Currently under 30-day Review—Open for Public Comments” or by using the search function.

FOR FURTHER INFORMATION CONTACT: John L. Murphy, PRA Compliance Officer, Paperwork Reduction Act Division, PRAD, Department of Housing and Urban Development, 451 7th Street SW, Room 8220, Washington, DC 20410; email at PaperworkReductionActOffice@hud.gov, ATTN: John L. Murphy telephone (202) 402-8084. This is not a toll-free number. HUD welcomes and is prepared to receive calls from individuals who are deaf or hard of hearing, as well as individuals with speech or communication disabilities. To learn more about how to make an accessible telephone call, please visit https://www.fcc.gov/consumers/guides/telecommunications-relay-service-trs.

Copies of available documents submitted to OMB may be obtained from Dr. John L. Murphy.

SUPPLEMENTARY INFORMATION: This notice informs the public that HUD is seeking approval from OMB for the information collection described in Section A. The Federal Register notice that solicited public comment on the information collection for a period of 60 days was published on May 30, 2025 at 90 FR 23063.

A. Overview of Information Collection

Title of Information Collection: HOME Investment Partnerships Program.

OMB Approval Number: 2506-0171.

Type of Request: Reinstatement of Approved Collection.

Form Number: HUD Form 27055.

Description of the need for the information and proposed use: The information collected through HUD's Integrated Disbursement and Information System (IDIS) (24 CFR 92.502) is used by HUD Field Offices, HUD Headquarters, and HOME Program Participating Jurisdictions (PJs). The information on program funds committed and disbursed is used by HUD to track PJ performance and to determine compliance with HOME regulations. The project-specific property, tenant, owner, and financial data is used to compile annual reports to Congress required at Section 284(b) of the HOME Investment Partnerships Act, as well as to make program management decisions about how well program participants are achieving the statutory objectives of the HOME Program. Program management reports are generated by IDIS to provide data on the status of program participants' commitment and disbursement of HOME funds. These reports are provided to HUD staff as well as to HOME PJs. Management reports required in conjunction with the Annual Performance Report (§ 92.509) are used by HUD Field Offices to assess the effectiveness of locally designed programs in meeting specific statutory requirements and by Headquarters in preparing the Annual Report to Congress. Specifically, these reports permit HUD to determine compliance with the requirement that PJs provide a 25 percent match for HOME funds expended during the Federal fiscal year (Section 220 of the Act) and that program income be used for HOME eligible activities (Section 219 of the Act), as well as the Women and Minority Business Enterprise requirements (§ 92.351(b)). Financial, project, tenant and owner documentation is used to determine compliance with HOME Program cost limits (Section 212(e) of the Act), eligible activities (§ 92.205), and eligible costs (§ 92.206), as well as to determine whether program participants are achieving the income targeting and affordability requirements of the Act (Sections 214 and 215). Other information collected under Subpart H (Other Federal Requirements) is primarily intended for local program management and is only viewed by HUD during routine monitoring visits. The written agreement with the owner for long-term obligation (§ 92.504) and tenant protections (§ 92.253) are required to ensure that the property owner complies with these important elements of the HOME Program and are also reviewed by HUD during monitoring visits. HUD reviews all other data collection requirements during monitoring to assure compliance with the requirements of the Act and other related laws and authorities. HUD tracks PJ performance and compliance with the requirements of 24 CFR parts 91 and 92. PJs use the required information in the execution of their program, and to gauge their own performance in relation to stated goals.

Information collection | Number of respondents | Frequency of response | Responses per annum | Burden hour per response | Annual burden hours | Hourly cost per response | Annual cost
Insular areas submission requirement (§ 92.61(a)) | 4 | 1 | 4 | 10 | 40.00 | $48.59 | $1,943.60
Consortia Doc Submission (§ 92.101(a)(2)) | 49 | 1 | 49 | 5 | 245.00 | 48.59 | 11,904.55
Notification of intent to participate (§ 92.103) | 3 | 1 | 3 | 1 | 3.00 | 48.59 | 145.77
Site and neighborhood standards (§ 92.202(b)) | 750 | 1 | 750 | 2 | 1,500.00 | 48.59 | 72,885.00
Income determinations (Rental) (§ 92.203(a)(1)) | 234,247 | 1 | 234,247 | 0.25 | 58,561.75 | 48.59 | 2,845,515.43
TBRA Tenant selection (§ 92.209(c)) | 18,006 | 1 | 18,006 | 1 | 18,006.00 | 48.59 | 874,911.54
TBRA Income determination (§ 92.209(c)(1)) | 72,000 | 1 | 72,000 | 0.75 | 54,000.00 | 48.59 | 2,623,860.00
Troubled HOME-Assisted Rental Projects (§ 92.210) | 5 | 1 | 5 | 0.5 | 2.50 | 48.59 | 121.48
Green building max subsidy limits (§ 92.250) | 188 | 1 | 188 | 2 | 376.00 | 48.59 | 18,269.84
Underwriting and subsidy layering (§ 92.250(b)) | 750 | 1 | 750 | 2 | 1,500.00 | 48.59 | 72,885.00
Marketing Plan after 6 months (§ 92.252) | 60 | 1 | 60 | 1 | 60.00 | 48.59 | 2,915.40
Monthly utility allowances (§ 92.252(b)) | 670 | 1 | 670 | 2 | 1,340.00 | 48.59 | 65,110.60
Annual rent review (§ 92.252(e)(2)) | 670 | 1 | 670 | 2 | 1,340.00 | 48.59 | 65,110.60
Small scale income determination (§ 92.252(g)(1)) | 2,000 | 1 | 2,000 | 2 | 4,000.00 | 48.59 | 194,360.00
Tenant protections (§ 92.253) | 6,667 | 1 | 6,667 | 2 | 13,334.00 | 48.59 | 647,899.06
Lease (§ 92.253(a)) | 670 | 1 | 670 | 5 | 3,350.00 | 48.59 | 162,776.50
Homeownership—Median Purchase Price (§ 92.254(a)(2)) | 5 | 1 | 5 | 5 | 25.00 | 48.59 | 1,214.75
Designation of CHDOs (§ 92.300(a)) | 600 | 1 | 600 | 1.5 | 900.00 | 48.59 | 43,731
IDIS reporting (§ 92.502) HUD 27055 | 670 | 1 | 670 | 12 | 8,040.00 | 48.59 | 390,663.60
Executing a written agreement (§ 92.504(b)) | 7,596 | 1 | 7,596 | 4 | 30,384.00 | 48.59 | 1,476,358.56
Inspections (§ 92.251) | 6,000 | 1 | 6,000 | 3 | 18,000.00 | 48.59 | 874,620.00
Financial oversight (§ 92.251(f)(3)(iv) ) | 7,261 | 1 | 7,261 | 1 | 7,261.00 | 48.59 | 352,811.99
Closeout (§ 92.507) | 652 | 1 | 652 | 1 | 652.00 | 48.59 | 31,680.68
Record Keeping (§ 92.508) | 670 | 1 | 670 | 40 | 26,800.00 | 48.59 | 1,302,212.00
Annual Performance Reports (§ 92.509) | 670 | 1 | 670 | 1 | 670.00 | 48.59 | 32,555.30
Policy and procedure review | 670 | 1 | 670 | 8 | 5,360.00 | 48.59 | 260,442.40
Total |  |  |  |  | 255,750.25 |  | 12,426,904.65
Total cost to the Federal Government: 240,798,75 hours at $48.59/hour (This figure is based on the FY 2025 GS-12 salary for an employee in the Washington-Baltimore-Arlington DC-MD-VA-WV-PA Locality)

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

C. Authority

Section 2 of the Paperwork Reduction Act of 1995, 44 U.S.C. 3507.

John L. Murphy,
Compliance Officer, Department PRA Compliance Officer, Office of Policy Development and Research, Chief Data Officer.

[FR Doc. 2026-03465 Filed 2-20-26; 8:45 am]

BILLING CODE 4210-67-P